DEPARTMENT OF THE INTERIOR

National Park Service

Announcement of Subsistence Resource Commission Meeting

AGENCY: National Park Service, Interior.

ACTION: Announcement of Subsistence Resource Commission meeting.

SUMMARY: The Superintendent of Gates of the Arctic National Park and Preserve and the Chairperson of the Subsistence Resource Commission for Gates of the Arctic National Park announce a forthcoming meeting of the Gates of the Arctic National Park Subsistence Resource Commission. The following agenda items will be discussed:

(1) Call to order.

(2) Roll call. Confirm quorum.

(3) Approval of summary of meeting minutes for November 15-17,1999 meeting in Fairbanks.

(4) Review agenda.

(5) Superintendent's Welcome.

(6) Introductions of Guests and Agency Staff.

(7) Review Commission Role and Purpose.

(8) Superintendent's Management and Research Update.

(9) Public and agency comments.

a. Correspondence.

(10) Old Business.

a. October 2000 SRC Chair's Meeting Report.

b. Review Public Comments on the Gates of the Arctic National Park and Preserve Draft Subsistence Management Plan.

c. Hunting Plan Recommendation 99-01 (Customary Trade)—Review public, Regional Council and Local Advisory Committee comments.

(11) New Business.

a. Review Federal Subsistence Board and Regional Advisory Council actions.

b. Federal Subsistence Fisheries Management Update.

c. Western Arctic Caribou Working Group Update.

d. SRC Work Session (Draft letters/Outreach).

(12) SRC Elections for Chair and Vice Chair.

(13) Set time and place of next SRC meeting.

(14) Adjournment.

DATES: The meeting will be held from 8:30 a.m. to 5 p.m. on Tuesday, November 14 and 8:30 a.m. to 5 p.m. on Wednesday, November 15, 2000.

LOCATION: The meeting will be held at Sophie Station Hotel, 1717 University Ave., Fairbanks, Alaska.

FOR FURTHER INFORMATION CONTACT: Dave Mills, Superintendent and Jeff Mow, Subsistence Manager, 201 First Avenue, Doyon Bldg., Fairbanks, Alaska 99701. Phone (907) 456-0578.

SUPPLEMENTARY INFORMATION: The Subsistence Resource Commissions are authorized under Title VIII, section 808, of the Alaska National Interest Lands Conservation Act, Public Law 96-487 and operate in accordance with the provisions of the Federal Advisory Committees Act.

John Quinley,
Acting Regional Director.

[FR Doc. 00-28575 Filed 11-6-00; 8:45 am]

BILLING CODE 4310-70-P